DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Assessing the Impact of the Patient Safety Improvement Corps (PSIC) Training Program.” In accordance with the Paperwork Reduction Act of 1995, 44 U.S.C. 3506(c)(2)(A), AHRQ invites the public to comment on this proposed information collection.

This proposed information collection was previously published in the Federal Register on April 16th, 2008 and allowed 60 days for public comment. No comments were received. The purpose of this notice is to allow an additional 30 days for public comment.

DATES: Comments on this notice must be received by July 24, 2008.

ADDRESSES: Written comments should be submitted to: AHRQTs OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.letkowitz(2iahrg.hhs.gov.

SUPPLEMENTARY INFORMATION:

Proposed Project

Assessing the Impact of the Patient Safety Improvement Corps (PSIC) Training Program

AHRQ proposes to assess the impact of the PSIC training program. This three-week program was designed and implemented by AHRQ and the Veteran's Administration's (VA) National Center for Patient Safety (NCPS) to improve patient safety by training participants in various patient safety concepts, tools, information, and techniques. The PSIC program represents a new approach to training for AHRQ by focusing on disseminating patient safety information and building skill sets to ultimately foster a national network of individuals who support, promote, and speak a common language of patient safety. Participants have included representatives from State health departments, hospitals and health systems, Quality Improvement Organizations, and a very small number of other types of organizations. AHRQ will use an independent contractor to conduct the assessment of the PSIC training program. The goal of the assessment is to determine the extent to which the PSIC concepts, tools, information, and techniques have been used on the job by training participants and successfully disseminated within and beyond the participating organizations, local areas, regions, and states. AHRQ is assessing the PSIC program pursuant to its authority under 42 U.S.C. 299(b) and 42 U.S.C. 299a(a) to evaluate its strategies for improving health care quality.

The assessment involves two Web-based questionnaires to examine post-training activities and patient safety outcomes of the training from multiple perspectives. One questionnaire is directed to training participants while the other is directed to leaders of the organizations from which the training participants were selected. Questionnaires will focus on the following topics: (1) Post-PSIC activities (including how PSIC material has been utilized in their home organizations, types of patient safety activities conducted post-PSIC, and number of people trained in some or all aspects of PSIC since their attendance); (2) barriers to and facilitators of the use of PSIC in the workplace; and (3) perceived outcomes of PSIC participation (e.g., improved patient safety; improved patient safety processes, standards, or policies; improved investigative and analytical processes and selection and implementation of patient safety interventions; improved patient safety culture; improved communications).

Method of Collection

All training participants and organizational leaders from participating organizations will be invited to respond to their corresponding Web-based questionnaire. Invitations will be sent via e-mail, using contact information previously collected by AHRQ and NCPS. Standard non response follow-up techniques, such as two reminder e-mails that include the link to the questionnaire, will be used. Individuals and organizations will be assured of the privacy of their responses.

Estimated Annual Respondent Burden

Exhibit 1 shows the estimated annualized burden hours for the respondent's time to participate in the study. The training participant questionnaire is estimated to require 30 minutes to complete and the organizational leader questionnaire is estimated to require 15 minutes to complete, resulting in a total burden of 169 hours.

Exhibit 1.—Estimated Annualized Burden Hours
Form name | Number of respondents | Number of responses per respondent | Hours per response | Total burden hours
Training participant questionnaire | 300 | 1 | 30/60 | 150
Organizational leader questionnaire | 75 | 1 | 15/60 | 19
Total | 375 | NA | NA | 169

Exhibit 2 shows the estimated annualized cost burden based on the respondents' time to participate in the study. The total cost burden is estimated to be $5,552.80.

Exhibit 2.—Estimated Annualized Cost Burden
Form name | Number of respondents | Total burden hours | Average hourly wage rate * | Total cost burden
Training participant questionnaire | 300 | 150 | $32.18 | $4,827.00
Organizational leader questionnaire | 75 | 19 | $38.20 | 725.80
Total | 375 | 169 | NA | 5,552.80
* Based upon the mean of the average wages for health professionals for the training participant questionnaire and for executives, administrators, and managers for the organizational leader questionnaire presented in the National Compensation Survey: Occupational Wages in the United States, June 2005, U.S. Department of Labor, Bureau of Labor Statistics.

Estimated Annual Costs to the Federal Government

The total cost to the government for this activity is estimated to be $127,442 to conduct the two one-time questionnaires and to analyze and present its results. This amount includes costs for developing the data collection tools ($50,976); collecting the data ($25,488); analyzing the data and reporting the findings ($44,605); and administrative support activities ($6,373).

Request for Comments

In accordance with the above-cited Paperwork Reduction Act legislation, comments on AHRQ's information collection are requested with regard to any of the following: (a) Whether the proposed collection of information is necessary for the proper performance of AHRQ health care research, quality improvement and information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: June 16, 2006.
Carolyn Clancy,
Director.

[FR Doc. E8-14052 Filed 6-23-08; 8:45 am]

BILLING CODE 4160-90-M